DEPARTMENT OF COMMERCE

Patent and Trademark Office

[Docket No. PTO-P-2022-0010]

Termination of Global Patent Prosecution Highway With Rospatent

AGENCY: United States Patent and Trademark Office, Department of Commerce.

ACTION: Notice.

SUMMARY: The United States Patent and Trademark Office (USPTO or Office) will no longer grant requests to participate in the Global Patent Prosecution Highway (GPPH) at the USPTO when such requests are based on work performed by Rospatent as an Office of Earlier Examination under the GPPH. In addition, in pending cases in which, prior to March 11, 2022, the USPTO granted special status under the GPPH to applications based on work performed by Rospatent, the USPTO will remove that status and return those applications to the regular processing and examination queue.

DATES: Termination date: March 11, 2022.

FOR FURTHER INFORMATION CONTACT: Office of Petitions, at 571-272-3282 or PPHfeedback@uspto.gov.

SUPPLEMENTARY INFORMATION: The USPTO has terminated engagement with officials from Russia's agency in charge of intellectual property, the Federal Service for Intellectual Property (commonly known as Rospatent), and with the Eurasian Patent Organization. The USPTO has also terminated engagement with officials from the national intellectual property office of Belarus.

Effective March 11, 2022, the USPTO will no longer grant requests to participate in the GPPH at the USPTO when such requests are based on work performed by Rospatent as an Office of Earlier Examination under the GPPH. In addition, in pending cases in which, prior to March 11, 2022, the USPTO granted special status under the GPPH to applications based on work performed by Rospatent, the USPTO will remove that status and return those applications to the regular processing and examination queue.

The USPTO has advised the Japan Patent Office, which serves as the Secretariat for the GPPH, of this decision.

Andrew Hirshfeld,
Commissioner for Patents, Performing the functions and duties of the Under Secretary of Commerce for Intellectual Property and Director of the United States Patent and Trademark Office.

[FR Doc. 2022-06885 Filed 4-1-22; 8:45 am]

BILLING CODE 3510-16-P